DEPARTMENT OF COMMERCE

National Oceanic and Atmospheric Administration

[I.D. 071206A]

Endangered and Threatened Species; Take of Anadromous Fish

AGENCY: National Marine Fisheries Service (NMFS), National Oceanic and Atmospheric Administration (NOAA), Department of Commerce.

ACTION: Receipt of application for research permit 1583 and request for comment.

SUMMARY: Notice is hereby given that NMFS has received an application for a permit for an Endangered Species Act (ESA) scientific research from Tenera Environmental in Lafayette, CA. This notice is relevant to federally endangered Sacramento River winter-run Chinook salmon (Oncorhynchus tshawytscha), threatened Central Valley spring-run Chinook salmon (O. tshawytscha), threatened Central Valley steelhead (O. mykiss), and threatened Southern Distinct Population Segment (DPS) of North American green sturgeon (Acipenser medirostris). This document serves to notify the public of the availability of the permit applications for review and comment.

DATES: Written comments on the permit application must be received at the appropriate address or fax number (see ADDRESSES) no later than 5 p.m. Pacific Standard Time on August 23, 2006.

ADDRESSES: Written comments on the permit application should be sent to the appropriate office as indicated below. Comments may also be sent via e-mail to FRNpermit.sac@noaa.gov or fax to the number indicated for the request. The application and related documents are available for review by appointment: Protected Resources Division, NMFS, 650 Capitol Mall, Suite 8-300, Sacramento, CA 95814 (ph: 916-930-3615, fax: 916-930-3629).

FOR FURTHER INFORMATION CONTACT: Russell Bellmer, Ph.D., at phone number 916-930-3615, or e-mail: FRNpermit.sac@noaa.gov.

SUPPLEMENTARY INFORMATION:

Authority

Issuance of permits and permit modifications, as required by the Endangered Species Act of 1973 (16 U.S.C. 1531 1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on the application listed in this notice should set out the specific reasons why a hearing would be appropriate (see ADDRESSES). The holding of such a hearing is at the discretion of the Assistant Administrator for Fisheries, NMFS. All statements and opinions contained in the permit action summaries are those of the applicant and do not necessarily reflect the views of NMFS.

Species Covered in This Notice

This notice is relevant to federally endangered Sacramento River winter-run Chinook salmon (Oncorhynchus tshawytscha), threatened Central Valley spring-run Chinook salmon (O. tshawytscha), threatened Central Valley steelhead (O. mykiss), and threatened Southern DPS of North American green sturgeon (Acipenser medirostris).

Applications Received

Tenera Environmental requests a 1-year permit 1583 for an estimated take of 32 juvenile winter-run Chinook Salmon, 85 juvenile spring-run Chinook Salmon, and 6 juvenile Central Valley steelhead to fulfill the requirements of the U.S. Environmental Protection Agency and provide current impingement data as requested by NMFS, U.S. Fish and Wildlife Service, and California Department Fish and Game. Tenera Environmental requests authorization for an estimated total take of 123 juveniles (with 100-percent incidental mortality) resulting from rinsing all impinged material from the traveling screens into the screenwash sluiceways and directing it by water flow and gravity into a collection container. Sampling will occur once every 4 hours for one 24-hour collection period per week for 12 consecutive months (312 samples) at the Contra Costa Power Plant (lat. 38° 01′12″ N, long. 121° 45′36″ W) and Pittsburg Power Plant (lat. 38°02′28″ N, long. 121° 53′38″W) located in the Suisun Bay of San Francisco Bay Delta. If any listed species are collected alive, they will be immediately returned to Suisun Bay. Individuals are measured and identified to species or run.

Tenera Environmental will take a total of six juveniles of the threatened Southern DPS of North American green sturgeon (with 100-incidental mortality) resulting from capture and release of the fish.

Dated: July 18, 2006.
Angela Somma,
Chief, Endangered Species Division, Office of Protected Resources, National Marine Fisheries Service.

[FR Doc. E6-11750 Filed 7-21-06; 8:45 am]

BILLING CODE 3510-22-S